DEPARTMENT OF COMMERCE

National Oceanic and Atmospheric Administration

50 CFR Part 660

[Docket No. 020311051-2135-02; I.D. 022002C]

RIN 0648-AN75

Fisheries Off West Coast States and in the Western Pacific; Western Pacific Pelagic Fisheries; Pelagic Longline Gear Restrictions, Seasonal Area Closure, and Other Sea Turtle Take Mitigation Measures; Correction

AGENCY: National Marine Fisheries Service (NMFS), National Oceanic and Atmospheric Administration (NOAA), Commerce.

ACTION: Correction to final rule.

SUMMARY: This document contains a correction to the final rule implementing pelagic longline gear restrictions for the Western Pacific pelagic fisheries published on June 12, 2002. This action would clarify amendatory instruction 4 that removes unneeded text.

DATES: Effective July 25, 2002.

FOR FURTHER INFORMATION CONTACT: William Chappell, NMFS, at 301-713-2341.

SUPPLEMENTARY INFORMATION:

Background

The final rule under the Fishery Management Plan for the Pelagic Fisheries of the Western Pacific Region that implements the reasonable and prudent alternative of the March 29, 2001, Biological Opinion issued by NMFS under the Endangered Species Act, was published in the Federal Register on June 12, 2002 (67 FR 40232). This final rule did not clearly explain in amendatory instruction 4 that the introductory text of 50 CFR 660.32(a) was removed by the final rule.

Corrections

In the rule FR Doc. 02-14749, in the issue of Wednesday, June 12, 2002 (67 FR 40232), on page 40236, at the bottom of the first column, correct amendatory instruction 4 to read as follows:

“4. In § 660.32, the introductory text of paragraph (a) is removed, paragraphs (a)(1) and (a)(2) are redesignated as paragraphs (a)(4) and (a)(5) respectively, new paragraphs (a)(1) and (a)(2) are added, and paragraph (a)(3) is revised to read as follows:”

Dated: July 19, 2002.
Rebecca Lent,
Deputy Assistant Administrator for Regulatory Programs, National Marine Fisheries Service.

[FR Doc. 02-18859 Filed 7-24-02; 8:45 am]

BILLING CODE 3510-22-S